THE NATIONAL FOUNDATION ON THE ARTS AND HUMANITIES

Proposed Collection, Comment Request, Library Workforce

AGENCY: Institute of Museum and Library Services, NFAH.

ACTION: Notice.

SUMMARY: The Institute of Museum and Library Services as part of its continuing effort to reduce paperwork and respondent burden, conducts a preclearance consultation program to provide the general public and federal agencies with an opportunity to comment on proposed and/or continuing collections of information in accordance with the Paperwork Reduction Act of 1995 (PRA95) [44 U.S.C. 3508(2)(A)] This program helps to ensure that requested data can be provided in the desired format, reporting burden (time and financial resources) is minimized, collection instruments are clearly understood, and the impact of collection requirements on respondents can be properly assessed. Currently the Institute of Museum and Library Services is soliciting comments concerning the proposed study of the status of use of technology and digitization activities in the nation's museums and libraries.

A copy of the proposed information collection request can be obtained by contacting the individual listed below in the addressee section of this notice.

DATES: Written comments must be submitted to the office listed in the addressee section below on or before February 7, 2005.

IMLS is particularly interested in comments that help the agency to:

• Evaluate whether the proposed collection of information is necessary for the proper performance of the functions of the agency, including whether the information will have practical utility:

• Evaluate the accuracy of the agency's estimate of the burden of the proposed collection of information including the validity of the methodology and assumptions used;

• Enhance the quality, utility and clarity of the information to be collected; and

• Minimize the burden of the collection of information on those who are to respond, including through the use of appropriate automated electronic, mechanical, or other technological collection techniques or other forms of information technology, e.g. permitting electronic submissions of responses.

ADDRESSES: Send comments to: Rebecca Danvers, Director of Research and Technology, Institute of Museum and Library Services, 1100 Pennsylvania Ave., NW., Room 223, Washington, DC 20506. Dr. Danvers can be reached on telephone: (202) 606-2478, fax: (202) 606-0395 or by e-mail at rdanvers@imls.gov.

SUPPLEMENTARY INFORMATION:

I. Background

The Institute of Museum and Library Services is an independent Federal grant-making agency authorized by the Museum and Library Services Act, 20 U.S.C. Section 9101 et seq. The IMLS provides a variety of grant programs to assist the nation's museums and libraries in improving their operations and enhancing their services to the public. Museums and libraries of all sizes and types may receive support from IMLS programs. The Museum and Library Services Act of 2003 includes a strong emphasis on supporting library services through the development of a strong library workforce by supporting activities that educate, recruit and train persons in library and information science, particularly in areas of new technology and other critical needs, including graduate fellowships, traineeships, institutes, or other programs. This solicitation is to develop plans to collect information to assist IMLS understand library and information science (LIS) workforce needs, including supply and demand, factors that affect them, existing workforce projections.

II. Current Action

The core duties of the Institute of Museum and Library Services, as stated in its strategic plan, are to promote excellence in library services and to promote access to museum and library services for a diverse public. This goal will be accomplished in part by promoting improved workforce planning including strategies for recruitment and retention of workers. IMLS is seeking assistance in developing specific plans to collect information from libraries and other information industry employers of librarians, librarians and other information professionals, and graduate schools of library and information science. Information to be collected from libraries and other employers of LIS professionals includes current and projected employment in terms of numbers of positions (filled and vacant), functional specialization, educational requirements, skill/competency requirements, salaries and benefits, demographics, annual budget/expenditures, constituency or market size. Information to be collected from LIS professionals includes current employment, career path and career progression, professional association/union membership and demographics. Information to be collected from the graduate LIS schools includes current and projected program offerings, recruitment, enrollment, graduation, placement, alumni tracking. These information collections will be based on geographic location (State and locality), type of employing organization and functionality of the work. A great deal of information has been collected on the LIS workforce, e.g., by BLS, NCES and professional societies. The information IMLS collects should build on, but not duplicate, existing or ongoing collections.

Agency: Institute of Museum and Library Services.

Title: National Study on the Future of Librarians in the Workforce.

OMB Number: n/a.

Agency Number: 3137.

Frequency: One time.

Affected Public: Libraries and other information industry organizations, librarians and other information professionals, graduate schools of library and information science.

Number of Respondents: 27,000 libraries, 1,000 information industry employers of LIS professionals, 2,500 LIS professionals, and 60 graduate schools of library and information science.

Estimated Time Per Respondent: 2 hours per library/employer; 30 minutes per professional, 3 hour per graduate school.

Total Burden Hours: 57,430.

Total Annualized Capital/Startup Costs: 0.

Total Annual Costs: 0.

FOR FURTHER INFORMATION CONTACT: Rebecca Danvers, Director of the Office of Research and Technology, Institute of Museum and Library Services, 1100 Pennsylvania Avenue, NW., Washington, DC 20506, telephone (202) 606-2478.

Dated: December 3, 2004.
Rebecca Danvers,
Director, Office of Research and Technology.

[FR Doc. 04-26926 Filed 12-7-04; 8:45 am]

BILLING CODE 7036-01-M